DEPARTMENT OF TRANSPORTATION

National Highway Traffic Safety Administration

[Docket No. NHTSA 2002-13858; Notice 1]

Dorel Juvenile Group; Receipt of Application for Determination of Inconsequential Non-Compliance

Dorel Juvenile Group [Cosco] (DJG), of Columbus, Indiana, failed to comply with S5.4.1(b) of Federal Motor Vehicle Safety Standard (FMVSS) No. 213, “Child Restraint Systems,” which incorporates S4.2(e) of FMVSS No. 209, “Seat Belt Assemblies,” and has filed an appropriate report pursuant to 49 CFR part 573, “Defect and Noncompliance Reports.” DJG has also applied to be exempted from the notification and remedy requirements of 49 U.S.C. Chapter 301—“Motor Vehicle Safety” on the basis that the noncompliance is inconsequential to motor vehicle safety.

This notice of receipt of the application is published under 49 U.S.C. 30118 and 30120 and does not represent any agency decision or other exercise of judgement concerning the merits of the application.

The following summarizes the DJG petition based upon information provided with the petition in accordance with the requirements of 49 CFR part 556, “Exemption for Inconsequential Defect or Noncompliance.”

Summary of the Petition

On July 25, 2002, as a result of its fiscal year 2002 testing, NHTSA notified DJG, by telephone, of a potential noncompliance regarding DJG's gray harness webbing. The non-compliant webbing is identified as gray Wellington style #N2216E2-917, lots numbered 2063F, 2100F, and 2140D, used in child restraint harnesses that are manufactured by DJG (14 Models and 54,400 units). The manufactured dates for this webbing are from March 15, 2002 through August 1, 2002. DJG's original (before light exposure) harness webbing breaking strength, measured by NHTSA's FY 2002 compliance testing, was 2,780 pounds, and after light exposure it was 1,020 pounds (a ratio of light exposed/original strength of 37%). Section 4.2(e) of FMVSS No. 209 requires webbing after light exposure to have breaking strength of not less than 60% of its original breaking strength.

DJG's independent testing at Veridian showed dynamic load range between 190 pounds and 322 pounds. DJG believes that its light exposed harness webbing breaking strength at 1,020 pounds far exceeds forces in dynamic crash testing by a factor of 3.1 to 6.8 times. DJG argues that without a minimum breaking strength requirement, webbing with much lower initial breaking strength could comply with the standard at much lower breaking strength than the DJG's 1,020 pounds as long as it retains 60 percent of the original webbing strength. DJG commented that while its webbing (made of nylon fabrics) was noncompliant when exposed to carbon arc light filtered by a Corex-D filter (tested according to the standard's requirements), the webbing was compliant when exposed to carbon arc light filtered by a soda-lime glass filter (specified by the standard for use only for polyester fabrics). DJG also commented that because the standard relies on carbon arc light for resistance to light testing, the method is obsolete. Therefore, DJG filed this petition on the basis that the noncompliance is inconsequential to motor vehicle safety.

Availability of the Petition and Other Documents

The petition and other relevant information are available for public inspection in NHTSA Docket No. NHTSA-2002-13858. You may call the Docket at (202) 366-9324 or you may visit the Docket Management in Room PL-401, 400 Seventh Street, SW., Washington, DC 20590 (10 a.m. to 5 p.m., Monday through Friday). You may also view the petition and other relevant information on the Internet. To do this, do the following:

(1) Go to Docket Management System (DMS) Web page for the Department of Transportation (http://dms.dot.gov/search).

(2) On the next page (http://dms.dot.gov/search/SearchFormSimple.cfm), type the docket number “13858.” After typing the docket number, click on “search.”

(3) On the next page, which contains docket summary information for the docket you selected, click on the desired comments. You may download the comments and other materials.

Comments

Interested persons are invited to submit written data, views and arguments on the petition of DJG described above. Comments should refer to the Docket Number and be submitted to: U.S Department of Transportation Docket Management, Room PL 401, 400 Seventh Street, SW., Washington, DC 20590. It is requested that two copies be submitted.

All comments received before the close of business on the closing date indicated below will be considered. The application and supporting materials, and all comments received after the closing date will also be filed and will be considered to the extent practicable. When the application is granted or denied, the Notice will be published in the Federal Register pursuant to the authority indicated below.

Comment closing date: January 2, 2003.

(49 U.S.C. 30118, 30120; delegations of authority at 49 CFR 1.50 and 49 CFR 501.8)
Issued on: November 26, 2002.
Stephen R. Kratzke,
Associate Administrator for Rulemaking.

[FR Doc. 02-30521 Filed 12-2-02; 8:45 am]

BILLING CODE 4910-59-P